DEPARTMENT OF THE INTERIOR

Geological Survey

[GX21DJ730U3M100; OMB Control Number 1028-NEW]

Agency Information Collection Activities: Water Resources Management—Institutional Resiliency, Hazards Planning, and Data Delivery Needs Information Collection

AGENCY: U.S. Geological Survey, Interior.

ACTION: Notice of information collection; request for comment.

SUMMARY: In accordance with the Paperwork Reduction Act (PRA) of 1995, we, the U.S. Geological Survey (USGS) are proposing a new information collection.

DATES: Interested persons are invited to submit comments on or before January 31, 2022.

ADDRESSES: Send your comments on this information collection request (ICR) by mail to U.S. Geological Survey, Information Collections Officer, 12201 Sunrise Valley Drive, MS 159, Reston, VA 20192 or by email to gs-info_collections@usgs.gov. Please reference OMB Control Number 1028-NEW in the subject line of your comments.

FOR FURTHER INFORMATION CONTACT: To request additional information about this ICR, contact Nicole Herman-Mercer by email at nhmercer@usgs.gov or by telephone at 303-236-5031. Individuals who are hearing or speech impaired may call the Federal Relay Service at 1-800-877-8339 for TTY assistance. You may also view the ICR at http://www.reginfo.gov/public/do/PRAMain.

SUPPLEMENTARY INFORMATION: In accordance with the PRA, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper performance of functions of the USGS; (2) will this information be processed and used in a timely manner; (3) is our estimate of the burden for this ICR accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The United States is facing growing challenges related to the availability of water due to shifting demographics, aging water-delivery infrastructure, and the impacts of climate change, which include flood and drought. Working with incomplete knowledge, managers must consider the needs of various demographic groups and economic sectors when making management decisions as well as when responding to emergencies. We will collect information regarding the decision-making process, data, and data-format needs to support daily, long-term, and emergency response decision-making. Information will also be sought on the resiliency of water-resource management institutions. A lack of resiliency within water institutions can lead to poor decision-making and outcomes that produce conflict between water-use sectors, states, or communities and ultimately may led to crises. This information will support the delivery of appropriate data, in appropriate formats, at the right time for decision-making and emergency response, as well as how water-resource institutions can be more resilient in the face of the many water-resources challenges the nation currently faces.

Title of Collection: Water Resources Management—Institutional Resiliency, Hazards Planning, and Data Delivery.

OMB Control Number: 1028-NEW.

Form Number: None.

Type of Review: New.

Respondents/Affected Public: State, local, Federal water-resource managers and water-resource stakeholders, and water hazard responders.

Total Estimated Number of Annual Respondents: 150.

Total Estimated Number of Annual Responses: 150.

Estimated Completion Time per Response: 60 minutes.

Total Estimated Number of Annual Burden Hours: 300.

Respondent's Obligation: Voluntary.

Frequency of Collection: Twice per year.

Total Estimated Annual Nonhour Burden Cost: None.

An agency may not conduct or sponsor, and a person is not required to respond to, a collection of information unless it displays a currently valid OMB control number.

The authority for this action is the PRA (44 U.S.C. 3501 et seq).

Joseph Nielsen,
Director, Integrated Information Dissemination Division, Water Resources Mission Area.

[FR Doc. 2021-26208 Filed 12-1-21; 8:45 am]

BILLING CODE 4338-11-P